FEDERAL TRADE COMMISSION

Granting of Request for Early Termination of the Waiting Period Under the Premerger Notification Rules

Section 7A of the Clayton Act, 15 U.S.C. 18a, as added by Title II of the Hart-Scott Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Transaction Granted Early Termination
ET date | Trans. No. | ET req status | Party name
30-NOV-09 | 20100139 | G | German Efromovich.
|  | G | 5K Holdings Limited.
|  | G | 5K Holdings Limited.
| 20100140 | G | Jose Efromovich.
|  | G | SK Holdings Limited.
|  | G | SK Holdings Limited.
| 20100156 | G | Welsh, Carson, Anderson & Stowe XI, L.P.
|  | G | Spectrum Holding Company, Inc.
|  | G | Spectrum Holding Company, Inc.
| 20100158 | G | Superior Plus Corp.
|  | G | CH Energy Group, Inc.
|  | G | Griffith Energy Services, Inc.
| 20100168 | G | Logitech International S.A.
|  | G | LifeSize Communications, Inc.
|  | G | LifeSize Communications, Inc.
| 20100174 | G | Warburg Pincus Equity Partners, L.P.
|  | G | InterMune, Inc.
|  | G | InterMune, Inc.
| 20100181 | G | Inergy, L.P.
|  | G | High Sierra Energy, LP.
|  | G | Monroe Gas Storage Company, LLC.
| 20100186 | G | Denbury Resources Inc.
|  | G | Encore Acquisition Company.
|  | G | Encore Acquisition Company.
01-DEC-09 | 20090570 | G | Watson Pharmaceuticals, Inc.
|  | G | Quiver Trust.
|  | G | Robin Hood Holdings Limited.
| 20100093 | G | Roper Industries, Inc.
|  | G | Verathon, Inc.
|  | G | Verathon, Inc.
| 20100138 | G | Bristol-Myers Squibb Company.
|  | G | Alder Biopharmaceuticals Inc.
|  | G | AiderBio Holdings, LLC.
| 20100149 | G | JLL Partners Fund V, L.P.
|  | G | KIMC Investments, Inc.
|  | G | KIMC Investments, Inc.
| 20100153 | G | Ares Corporation.
|  | G | Allied Capital Corporation.
|  | G | Allied Capital Corporation.
| 20100173 | G | Brian Pratt.
|  | G | James Construction Group, LLC.
|  | G | James Construction Group, LLC.
| 20100180 | G | Mr. Li Tzar Kai, Richard.
|  | G | AIG Credit Facility Trust.
|  | G | Pine Bridge Investments Fund Management Ltd.
|  | G | Pine Bridge Investments Schweiz GmbH.
|  | G | AIG Investments Japan Co., Ltd.
|  | G | AIG Japan Capital Investment Co., Ltd.
|  | G | Pine Bridge Investments Canada Inc.
|  | G | Pine Bridge Investments Asia Limited.
|  | G | Pine Bridge Global Investments LLC.
|  | G | Pine Bridge Capital Partners LLC.
|  | G | Brazos Capital Management, L.P.
|  | G | New Brazos GP LLC.
| 20100185 | G | Telapex, Inc.
|  | G | Bryan A. Corr, Sr. and Tina N. Corr.
|  | G | CWC License Holding, Inc.
|  | G | Corr Wireless Communications, LLC.
| 20100194 | G | Lightyear Fund II, L.P.
|  | G | ING Groep NV.
|  | G | PrimeVest Financial Services, Inc.
|  | G | ING Brokers Network, LLC.
|  | G | FNI International, Inc.
03-DEC-09 | 20100178 | G | Windstream Corporation.
|  | G | NuVox, Inc.
|  | G | NuVox, Inc.
| 20100179 | G | ALLETE, Inc.
|  | G | Square Butte Electric Cooperative.
|  | G | Square Butte Electric Cooperative.
04-DEC-09 | 20100199 | G | Rockwell Collins, Inc.
|  | G | AR Group, Inc.
|  | G | AR Group, Inc.
| 20100200 | G | Berkshire Hathaway Inc.
|  | G | Burlington Northern Santa Fe Corporation.
|  | G | Burlington Northern Santa Fe Corporation.
| 20100201 | G | Clarus Lifesciences I, L.P.
|  | G | Globus Medical, Inc.
|  | G | Globus Medical, Inc.
| 20100205 | G | Vista Equity Partners Fund Ill, L.P.
|  | G | Intuit Inc.
|  | G | Intuit Inc.
| 20100211 | G | Jacobs Engineering Group Inc.
|  | G | TYBRIN Corporation.
|  | G | TYBRIN Corporation.
| 20100222 | G | SandRidge Energy, Inc.
|  | G | Forest Oil Corporation.
|  | G | Forest Oil Permian Corporation.
05-DEC-09 | 20100191 | G | GDF SUEZ.
|  | G | Astoria Project Partners LLC.
|  | G | Astoria Project Partners LLC.
09-DEC-09 | 20100108 | G | SPX Corporation.
|  | G | Connell Limited Partnership.
|  | G | Yuba Heat Transfer LLC.
| 20100113 | G | Corinthian Colleges, Inc.
|  | G | Heald Investment, LLC.
|  | G | Heald Capital, LLC.
| 20100141 | G | Sonova Holding AG Alfred E. Mann.
|  | G | Advanced Bionics Corporation.
|  | G | Advanced Bionics, LLC.
| 20100204 | G | Dover Corporation.
|  | G | Mr. David C. Orlowski.
|  | G | Isotech of Illinois, Inc.
08-DEC-09 | 20100142 | G | Odyssey Investment Partners Fund IV AIV I, L.P.
|  | G | ThyssenKrupp AG.
|  | G | ThyssenKrupp Safway, LLC.
| 20100176 | G | Healthcare Technology Holdings, Inc.
|  | G | IMS Health Incorporated.
|  | G | IMS Health Incorporated.
| 20100193 | G | Abbott Laboratories.
|  | G | PanGenetics 110 B.V.
|  | G | PanGenetics 110 B.V.
10-DEC-09 | 20100120 | G | Qiagen N.V.
|  | G | SA Biosciences Corporation.
|  | G | SA Biosciences Corporation.
| 20100152 | G | Emergency Medical Service Corporation.
|  | G | Pinnacle Consultants Limited Partnership.
|  | G | MSO Newco, LLC.
|  | G | Pinnacle Consultants Mid-Atlantic, L.L.C.
| 20100221 | G | TransUnion Corporation.
|  | G | Verl O. Purdy.
|  | G | MedData Health LLC.
11-DEC-09 | 20100129 | G | Birch Holdco, LP.
|  | G | Northrop Grumman Corporation.
|  | G | TASC, Inc.
| 20100177 | G | The Edward W. Scripps Trust.
|  | G | TCM Parent, LLC.
|  | G | TCM Parent, LLC.
| 20100210 | G | TeleCommunication Systems, Inc.
|  | G | Networks in Motion, Inc.
|  | G | Networks in Motion, Inc.
| 20100218 | G | Odyssey Investment Partners Fund IV, L.P.
|  | G | TA IX L.P.
|  | G | One Call Medical, Inc.
| 20100219 | G | Excellere Capital Fund, L.P.
|  | G | Med Tech Holdings, Inc.
|  | G | Med Tech College, L.L.C.
| 20100225 | G | Mitsui Sumitomo Insurance Group Holdings, Inc.
|  | G | Aioi Insurance Company, Limited.
|  | G | Aioi Insurance Company, Limited.
| 20100226 | G | Odyssey Investment Partners Fund IV, L.P.
|  | G | New S Corp. I, Inc.
|  | G | Wencor Holdings LLC.
| 20100230 | G | JPMorgan Chase & Co.
|  | G | HTS Stiftung.
|  | G | Constantia Packaging AG.
| 20100232 | G | Trow Global Holdings Inc.
|  | G | Ivan Dvorak.
|  | G | Teng & Associates, Inc.
| 20100233 | G | Carl C. Icahn.
|  | G | Tropicana Entertainment Inc.
|  | G | Tropicana Entertainment Inc.
| 20100235 | G | H.I.G Capital Partners IV, LP.
|  | G | Tennessee Valley Ventures, L.P.
|  | G | Food Holdings, Inc.
|  | G | Southern Quality Meats, Inc.
| 20100236 | G | People's United Financial, Inc.
|  | G | Financial Federal Corporation.
|  | G | Financial Federal Corporation.
11-DEC-09 | 20100238 | G | Berkshire Hathaway Inc.
|  | G | American Electric Power Company, Inc.
|  | G | AEP Texas Central Company.
|  | G | AEP Texas North Company.
| 20100242 | G | The Procter & Gamble Company.
|  | G | MDVIP, Inc.
|  | G | MDVIP, Inc.

FOR FURTHER INFORMATION CONTACT: Sandra M. Peay, Contact Representative or Renee Hallman, Contact Representative, Federal Trade Commission, Premerger Notification Office, Bureau of Competition, Room H-303, Washington, DC 20580, (202) 326-3100.

By Direction of the Commission.
Donald S. Clark,
Secretary.

[FR Doc. E9-31207 Filed 1-5-10; 8:45 am]

BILLING CODE 6750-01-M